DEPARTMENT OF COMMERCE

International Trade Administration

Antidumping or Countervailing Duty Order, Finding, or Suspended Investigation;

Opportunity to Request Administrative Review

AGENCY: Import Administration, International Trade Administration, Department of Commerce.

ACTION: Notice of Opportunity to Request Administrative Review of Antidumping or Countervailing Duty Order, Finding, or Suspended Investigation.

SUPPLEMENTARY INFORMATION:

Background

Each year during the anniversary month of the publication of an antidumping or countervailing duty order, finding, or suspension of investigation, an interested party, as defined in section 771(9) of the Tariff Act of 1930, as amended (the Act), may request, in accordance with section 351.213 (2002) of the Department of Commerce (the Department) Regulations, that the Department conduct an administrative review of that antidumping or countervailing duty order, finding, or suspended investigation.

Opportunity to Request a Review

Not later than the last day of May 2005, interested parties may request administrative review of the following orders, findings, or suspended investigations, with anniversary dates in May for the following periods:

Antidumping Duty Proceeding | Period
ARGENTINA: Light-walled Rectangular Carbon Steel Pipe and Tubing
A-357-802 | 5/1/04—4/30/05
BELGIUM: Stainless Steel Plate in Coils
A-423-808 | 5/1/04—4/30/05
BRAZIL: Iron Construction Castings
A-351-503 | 5/1/04—4/30/05
BRAZIL: Frozen Concentrated Orange Juice
A-351-605 | 5/1/04—8/4/04
CANADA: Softwood Lumber
A-122-838 | 5/1/04—4/30/05
CANADA: Stainless Steel Plate in Coils
A-122-830 | 5/1/04—4/30/05
Antifriction Bearings, Ball and Spherical Plain
A-427-801 | 5/1/04—4/30/05
GERMANY: Antifriction Bearings, Ball
A-428-801 | 5/1/04—4/30/05
INDIA: Silicomanganese
A-533-823 | 5/1/04—4/30/05
INDIA: Welded Carbon Steel Pipes and Tubes
A-533-502 | 5/1/04—4/30/05
INDONESIA: Extruded Rubber Thread
A-560-803 | 5/1/04—5/20/04
ITALY: Antifriction Bearings, Ball
A-475-801 | 5/1/04—4/30/05
ITALY: Stainless Steel Plate in Coils
A-475-822 | 5/1/04—4/30/05
JAPAN: Antifriction Bearings, Ball
A-588-804 | 5/1/04—4/30/05
JAPAN: Gray Portland Cement and Clinker
A-588-815 | 5/1/04—4/30/05
JAPAN: Stainless Steel Angle
A-588-856 | 5/1/04—4/30/05
KAZAKHSTAN: Silicomanganese
A-834-807 | 5/1/04—4/30/05
REPUBLIC OF KOREA: Malleable Cast Iron Pipe Fittings, Other than Grooved
A-580-507 | 5/1/04—2/27/05
REPUBLIC OF KOREA: Polyester Staple Fiber
A-580-812 | 5/1/04—4/30/05
REPUBLIC OF KOREA: Stainless Steel Angle
A-580-846 | 5/1/04—4/30/05
REPUBLIC OF KOREA: Stainless Steel Plate in Coils
A-580-831 | 5/1/04—4/30/05
SINGAPORE: Antifriction Bearings, Ball
A-559-801 | 5/1/04—4/30/05
SPAIN: Stainless Steel Angle
A-469-810 | 5/1/04—4/30/05
SOUTH AFRICA: Stainless Steel Plate in Coils
A-791-805 | 5/1/04—4/30/05
TAIWAN: Certain Circular Welded Carbon Steel Pipe & Tubes
A-583-008 | 5/1/04—4/30/05
TAIWAN: Polyester Staple Fiber
A-583-833 | 5/1/04—4/30/05
TAIWAN: Stainless Steel Plate in Coils
A-583-830 | 5/1/04—4/30/05
THE PEOPLE'S REPUBLIC OF CHINA: Iron Construction Castings
A-570-502 | 5/1/04—4/30/05
THE PEOPLE'S REPUBLIC OF CHINA: Pure Magnesium
A-570-832 | 5/1/04—4/30/05
THE UNITED KINGDOM:Antifriction Bearings, Ball
A-412-801 | 5/1/04—4/30/05
TURKEY: Welded Carbon Steel Pipe and Tube
A-489-501 | 5/1/04—4/30/05
VENEZUELA: Silicomanganese
A-307-820 | 5/1/04—4/30/05
Countervailing Duty Proceedings
BELGIUM: Stainless Steel Plate in Coils
C-423-809 | 1/1/04—12/31/04
BRAZIL: Iron Construction Castings
C-351-504 | 1/1/04—12/31/04
CANADA: Softwood Lumber
C-122-839 | 1/1/04—12/31/04
ITALY: Stainless Steel Plate in Coils
C-475-823 | 1/1/04—12/31/04
SOUTH AFRICA: Stainless Steel Plate in Coils
C-791-806 | 1/1/04—12/31/04
Suspension Agreements
None.

In accordance with section 351.213(b) of the regulations, an interested party as defined by section 771(9) of the Act may request in writing that the Secretary conduct an administrative review. For both antidumping and countervailing duty reviews, the interested party must specify the individual producers or exporters covered by an antidumping finding or an antidumping or countervailing duty order or suspension agreement for which it is requesting a review, and the requesting party must state why it desires the Secretary to review those particular producers or exporters. If the interested party intends for the Secretary to review sales of merchandise by an exporter (or a producer if that producer also exports merchandise from other suppliers) which were produced in more than one country of origin and each country of origin is subject to a separate order, then the interested party must state specifically, on an order-by-order basis, which exporter(s) the request is intended to cover.

As explained in Antidumping and Countervailing Duty Proceedings: Assessment of Antidumping Duties, 69 FR 23954 (May 6, 2003), the Department has clarified its practice with respect to the collection of final antidumping duties on imports of merchandise where intermediate firms are involved. The public should be aware of this clarification in determining whether to request an administrative review of merchandise subject to antidumping findings and orders. See also the Import Administration web site at http://ia.ita.doc.gov.

Six copies of the request should be submitted to the Assistant Secretary for Import Administration, International Trade Administration, Room 1870, U.S. Department of Commerce, 14th Street & Constitution Avenue, N.W., Washington, D.C. 20230. The Department also asks parties to serve a copy of their requests to the Office of Antidumping/Countervailing Operations, Attention: Sheila Forbes, in room 3065 of the main Commerce Building. Further, in accordance with section 351.303(f)(l)(i) of the regulations, a copy of each request must be served on every party on the Department's service list.

The Department will publish in the Federal Register a notice of “Initiation of Administrative Review of Antidumping or Countervailing Duty Order, Finding, or Suspended Investigation” for requests received by the last day of May 2005. If the Department does not receive, by the last day of May 2005, a request for review of entries covered by an order, finding, or suspended investigation listed in this notice and for the period identified above, the Department will instruct Customs and Border Protection to assess antidumping or countervailing duties on those entries at a rate equal to the cash deposit of (or bond for) estimated antidumping or countervailing duties required on those entries at the time of entry, or withdrawal from warehouse, for consumption and to continue to collect the cash deposit previously ordered.

This notice is not required by statute but is published as a service to the international trading community.

Dated: April 26, 2005.
Holly A. Kuga,
Senior Office Director, AD/CVD Operations, Office 4, for Import Administration.

[FR Doc. E5-2095 Filed 4-29-05; 8:45 am]

BILLING CODE 3510-DS-S